DEPARTMENT OF ENERGY

Federal Energy Regulatory Commission

[Project No. 11068-014—California]

Orange Cove Irrigation District, and Friant Power Authority; Notice of Availability of Environmental Assessment

In accordance with the National Environmental Policy Act of 1969, as amended, and the Federal Energy Regulatory Commission's (Commission) regulations (18 CFR part 380), the Office of Energy Projects has prepared an Environmental Assessment (EA) regarding Orange Cove Irrigation District's and Friant Power Authority's request for a capacity-related amendment of the license for the Fishwater Release Hydroelectric Project. The project is located at the Bureau of Reclamation's Friant Dam on the San Joaquin River in Fresno County, California. This EA concludes that the proposed action would not constitute a major federal action significantly affecting the quality of the human environment.

A copy of the EA is on file with the Commission and is available for public inspection. The EA may also be viewed on the Commission's Web site at http://www.ferc.gov using the “eLibrary” link. Enter the docket number (P-11068) in the docket number field to access the document. For assistance, contact FERC Online Support at FERCOnlineSupport@ferc.gov or toll-free at (866) 208-3676, or for TTY, (202) 502-8659.

Any comments on the EA should be filed by July 21, 2011, and should be addressed to the Secretary, Federal Energy Regulatory Commission, 888 First Street, NE., Room 1-A, Washington, DC 20426. Please reference the project name and project number (P-11068) on all comments. Comments may be filed electronically via the Internet in lieu of paper. The Commission strongly encourages electronic filings. See 18 CFR 385.2001(a)(1)(iii) and the instructions on the Commission's Web site under the “eFiling” link. FOR FURTHER INFORMATION CONTACT Andrea Claros at (202) 502-8171.

Dated: June 6, 2011.
Nathaniel J. Davis, Sr.,
Deputy Secretary.

[FR Doc. 2011-15192 Filed 6-17-11; 8:45 am]

BILLING CODE 6717-01-P